DEPARTMENT OF DEFENSE

Notice of the Defense Task Force on Sexual Harassment and Violence at the Military Service Academies—Open Meeting.

AGENCY: Department of Defense.

ACTION: Notice; Defense Task Force on Sexual Harassment and Violence at the Military Service Academies—open meeting.

SUMMARY: Pursuant to the Federal Advisory Committee Act (FACA), Public Law 96-463, notice is hereby given that the Defense Task Force on Sexual Harassment and Violence at the Military Service Academies will hold an open meeting at The Courtyard Marriott, 2700 Eisenhower Avenue, Alexandria, Virginia 22314, on March 30, 2005 from 8:30 a.m. to 11:30 a.m.

Purpose: The Task Force will meet on March 30, 2005, from 8:30 a.m. until 11:30 a.m. This session will be open to the public, subject to the availability of space. In keeping with the spirit of Federal Advisory Committee Act, it is the desire of the Task Force to provide the public with an opportunity to make comment regarding the current work of the Task Force. The first two hours of the meeting will be designated for any public comment. During the final hour, the Task Force as a whole will discuss various issues regarding victims' rights and services at the U.S. Military and Naval Academies. Any interested citizens are encouraged to attend.

DATES: March 30, 2005, 8:30 a.m.-11:30 a.m.

Location: The Courtyard Marriott, 2700 Eisenhower Avenue, Alexandria, Virginia 22314.

FOR FURTHER INFORMATION CONTACT: Any member of the public wishing further information concerning this meeting or wishing to submit comments must contact:

Mr. William Harkey, Public Affairs Officer, Task Force on Sexual Harassment and Violence at the Military Service Academies, 2850 Eisenhower Ave, Suite 100, Alexandria, Virginia 22314. Telephone: (703) 325-6640, DSN# 221-6640, Fax: (703) 325-6710/6711, william.harkey.CTR@wso.whs.mil.

Interested persons may submit a written statement for consideration by the Task Force and make an oral presentation of such. Persons desiring to make an oral presentation or submit a written statement to the Committee must notify the point of contact listed above no later than 5 p.m., March 25, 2005. Oral presentations by members of the public will be permitted only on March 30, 2005, from 8:30 a.m. until 10:30 a.m. before the full Task Force. Presentations will be limited to ten (10) minutes each. Number of oral presentations to be made will depend on the number of requests received from members of the public and the time allotted. Each person desiring to make an oral presentation must provide the point of contact listed above with one (1) written copy of the presentation by 5 p.m., March 25, 2005 and bring 15 written copies of any material that is intended for distribution at the meeting. Persons submitting a written statement must submit 15 written copies of the statement to the Task Force staff by 5 p.m. on March 25, 2005.

General Information: Additional information concerning the Defense Task Force on Sexual Harassment and Violence at The Military Service Academies, its structure, function, and composition, may be found on the DTFSH and VTMA Web site (http://www.dtic.mil/dtfs).

Dated: March 17, 2005.
Jeannette Owings-Ballard,
OSD Federal Register Liaison Officer, Department of Defense.

[FR Doc. 05-5745 Filed 3-22-05; 8:45 am]

BILLING CODE 5001-06-P